DEPARTMENT OF JUSTICE

Notice of Lodging of Consent Decree Pursuant to the Comprehensive Environmental Response, Compensation, and Liability Act

In accordance with Departmental policy, the Department of Justice gives notice that a proposed consent decree in the case captioned United States v. Avanti Development, Inc., et al., Civil Action No. IP01-402-C-B/S (S.D. Ind.) was lodged with the United States District Court for the Southern District of Indiana on May 21, 2001. The proposed consent decree relates to the Avanti Superfund Site (the “Site”) in Indianapolis, Indiana.

The proposed consent decree would resolve a civil claim of the United States for recovery of unreimbursed past response costs under section 107 of the Comprehensive Environmental Response, Compensation, and Liability Act, as amended, 42 U.S.C. 9607, against Settling Defendant Vornado Realty Trust. The proposed consent decree would provide for payment of $30,000 toward the United States' past response costs associated with the Site.

For a period of thirty (30) days from the date of this publication, the Department of Justice will receive comments relating to the proposed consent decree. Comments should be addressed to the Assistant Attorney General, Environment and Natural Resources Division, United States Department of Justice, Washington, DC 20530, and should refer to United States v. Avanti Development, Inc., et al., Civil Action No. IP01-402-C-B/S (S.D. Ind.), and DOJ Reference No. 90-11-3-06099.

The proposed consent decree may be examined at: (1) The Office of the United States Attorney for the Southern District of Indiana, 10 West Market Street, Suite 2100, Indianapolis, Indiana 46204 (contact Thomas Kieper (317-226-6333)); and (2) the United States Environmental Protection Agency (Region 5), 77 West Jackson Boulevard, Chicago, Illinois 60604 (contact Kevin Chow (312-353-6181)). Copies of the proposed consent decree may also be obtained by mail from the Department of Justice Consent Decree Library, P.O. Box 7611, Washington, DC 20044. In requesting copies, please refer to the above-referenced case name and DOJ Reference Number, and enclose a check made payable to the Consent Decree Library for $7.50 (30 pages at 25 cents per page reproduction cost).

William D. Brighton,
Assistant Chief, Environmental Enforcement Section, Environment and Natural Resources Division.

[FR Doc. 01-13859 Filed 6-1-01; 8:45 am]

BILLING CODE 4410-15-M